DEPARTMENT OF EDUCATION

34 CFR Part 685

William D. Ford Federal Direct Loan Program

AGENCY: Department of Education.

ACTION: Final regulations; correction.

SUMMARY: On November 1, 1999 amendments to regulations governing the William D. Ford Federal Direct Loan Program were published in the Federal Register (64 FR 59016). This document corrects the designation of the section amended in item 24 and adds a word inadvertently dropped from § 685.306(a) as amended in item 26 on page 59044. The change made in item 24 should have been made to § 685.216, rather than to § 685.215, because § 685.215 was previously redesignated as § 685.216 in separate amendments published in the same issue of the Federal Register (64 FR 58969).

DATES: These regulations, as corrected, are effective July 1, 2000.

FOR FURTHER INFORMATION CONTACT: Ms. Nicki Meolo, U.S. Department of Education, 400 Maryland Avenue, SW., Room 3045, Regional Office Building 3, Washington, DC 20202-5346. Telephone: (202) 708-8242. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION: In FR Doc. 99-28315, published in the Federal Register on November 1, 1999 (64 FR 59016), in item 24 on page 59044, the reference to “Section 685.215” is corrected to read “Section 685.216” and the number and heading of the amended section are corrected to read “§ 685.216 Consolidation.” In item 26 on page 59044, in the amended text of § 685.306(a), in the third column, first line, add the word “portion” after the word “that” and before the word “of.”

Electronic Access to This Document

You may view this document in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number: 84.268 William D. Ford Federal Direct Loan Program)

List of Subjects in 34 CFR Part 685

Administrative practice and procedure, Colleges and universities, Education, Loan programs—education, Reporting and recordkeeping requirements, Student aid, Vocational education.

Dated: June 7, 2000.
A. Lee Fritschler,
Assistant Secretary, Office of Postsecondary Education.

[FR Doc. 00-14823 Filed 6-12-00; 8:45 am]

BILLING CODE 4000-01-M